DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Action(s)

On June 21, 2019 OFAC determined that the property and interests in property subject to U.S. jurisdiction of the following persons are blocked under the relevant sanctions authorities listed below.

Case IDs NICARAGUA-16056, NICARAGUA-15504, NICARAGUA-15503, NICARAGUA-15361

Individuals:

1. PORRAS CORTES, Gustavo Eduardo; DOB 11 Oct 1954; POB Managua, Nicaragua; nationality Nicaragua; Gender Male (individual) [NICARAGUA] [NICARAGUA-NHRAA].

Designated pursuant to section 1(a)(iii) of Executive Order 13851 of November 27, 2018, “Blocking Property of Certain Persons Contributing to the Situation in Nicaragua” (E.O. 13851) for being an official of the Government of Nicaragua or having served as an official of the Government of Nicaragua at any time on or after January 10, 2007; and pursuant to section 1(a)(ii) of E.O. 13851 for being a leader of the Nicaraguan National Assembly, an entity that has, or whose members have, engaged in, actions or policies that undermine democratic processes or institutions in Nicaragua.

Designated pursuant to section 5(a)(2)(A) of the Nicaragua Human Rights and Anticorruption Act of 2018 (NHRAA), Public Law 15-335, for being a leader of the Nicaraguan National Assembly, an entity that has, or whose members have, engaged in, significant actions or policies that undermine democratic processes or institutions.

2. CASTILLO CASTILLO, Orlando Jose (a.k.a. CASTILLO, Orlando), Residencial Bolonia, Canal 2 1 Cuadra Al Sur 3 C Al Oeste, Managua, Nicaragua; DOB 02 Sep 1943; POB Esteli, Nicaragua; nationality Nicaragua; Gender Male; Passport C01713933 (Nicaragua) issued 24 Jul 2014 expires 24 Jul 2024; National ID No. 1610209430002G (Nicaragua) (individual) [NICARAGUA].

Designated pursuant to section 1(a)(iii) of E.O. 13851 for being an official of the Government of Nicaragua or having served as an official of the Government of Nicaragua at any time on or after January 10, 2007; and pursuant to section 1(a)(ii) of E.O. 13851 for being a leader of the Institute of Telecommunications and Postal Service (TELCOR), an entity that has, or whose members have, engaged in, actions or policies that threaten the peace, security, or stability of Nicaragua.

3. CASTRO GONZALEZ, Sonia, Villa Barcelona De La Embajada De Espana, 100 Metros Al Este Casa 17, Managua, Nicaragua; DOB 29 Sep 1967; POB Carazo, Nicaragua; nationality Nicaragua; Gender Female; Passport A00001526 (Nicaragua) issued 19 Nov 2018 expires 19 Nov 2028; National ID No. 0422909670000N (Nicaragua) (individual) [NICARAGUA] [NICARAGUA-NHRAA].

Designated pursuant to section 1(a)(iii) of E.O. 13851 for being an official of the Government of Nicaragua or having served as an official of the Government of Nicaragua at any time on or after January 10, 2007; and pursuant to section 1(a)(i)(A) of E.O. 13851 for being responsible for or complicit in, or having directly or indirectly engaged or attempted to engage in, serious human rights abuse in Nicaragua.

Designated pursuant to section 5(a)(2)(A) of NHRAA for being a leader of Ministry of Health, an entity that has, or whose members have, engaged in, significant acts of violence or conduct that constitutes a serious abuse or violation of human rights against persons associated with the protests in Nicaragua that began on April 18, 2018.

4. MOJICA OBREGON, Oscar Salvador (a.k.a. MOJICA OBREGON, Oscar); DOB 22 Nov 1955; POB Nicaragua; nationality Nicaragua; Gender Male; Passport A0006041 (Nicaragua) (individual) [NICARAGUA].

Designated pursuant to section 1(a)(iii) of E.O. 13851 for being an official of the Government of Nicaragua or having served as an official of the Government of Nicaragua at any time on or after January 10, 2007.

Dated: June 26, 2019.
Andrea Gacki,
Director, Office of Foreign Assets Control.

[FR Doc. 2019-14065 Filed 7-15-19; 8:45 am]

BILLING CODE 4810-AL-P